DEPARTMENT OF HEALTH AND HUMAN SERVICES

Administration for Community Living

Reallotment of FY 2016 Funds

AGENCY: Administration on Intellectual and Developmental Disabilities (AIDD), Administration on Disabilities (AoD), Administration for Community Living (ACL), U.S. Department of Health and Human Services (HHS).

ACTION: Notice of reallotment of FY 2016 funds.

SUMMARY: AIDD intends to reallot funds under authority of Section 122(e) and Section 142(a)(1) of the Development Disabilities Assistance and Bill of Rights Act of 2000 (Pub. L. 106-402) which states: “If the Secretary determines that an amount of an allotment to a State for a period (of a fiscal year or longer) will not be required by the State during the period for the purpose for which the allotment was made, the Secretary may reallot the amount.” AIDD will be reallotting FY 2016 funds awarded to the State Council on Developmental Disabilities (SCDD) and the Protection & Advocacy (P&A) agency located within the Commonwealth of Puerto Rico. This determination is based on the limited reported expenditures and requests for reimbursement over the last several years from the SCDD and P&A in the Commonwealth of Puerto Rico.

The Puerto Rico SCDD will have up to $1.5 million rescinded and proportionately redistributed to the remaining SCDDs. SCDDs that receive FY 2016 realloted funds will have through the end of FY 2017 to obligate the funds and until the end of FY 2018 to liquidate the funds. The Puerto Rico P&A will have up to $800,000 rescinded and proportionately redistributed to the remaining P&As. P&As that receive the FY 2016 funds will have through the end of FY 2017 to spend the funds.

Realloted funds for both the SCDDs and the P&As must be used according to the terms as outlined in the FY 2016 Notice of Award for each program.

DATES: Funds will be realloted after August 1, 2016 and before September 30, 2016.

ADDRESSES: The reallotment amounts to SCDDs and P&As can be found at http://www.acl.gov/About_ACL/Allocations/DD-Act.aspx.

FOR FURTHER INFORMATION CONTACT: Andrew Morris, Office of the Commissioner, Administration on Disabilities, 330 C St. SW., Washington, DC 20201. Telephone (202) 795-7408. Email andrew.morris@acl.hhs.gov. Please note the telephone number is not toll free. This document will be made available in alternative formats upon request. Written correspondence can be sent to Administration for Community Living, U.S. Department of Health and Human Services, 330 C St. SW., Washington, DC 20201.

Dated: June 14, 2016.
Aaron Bishop,
Commissioner, Administration on Disabilities, Administration for Community Living.

[FR Doc. 2016-14610 Filed 6-20-16; 8:45 am]

BILLING CODE 4154-01-P